DEPARTMENT OF THE INTERIOR

National Park Service

[NPS-WASO-CR-14624; PPWOCRADI0, PCU00RP14.R50000]

Proposed Information Collection; Procedures for State, Tribal, and Local Government Historic Preservation Programs

AGENCY: National Park Service, Interior.

ACTION: Notice; request for comments.

SUMMARY: We (National Park Service) will ask the Office of Management and Budget (OMB) to approve the information collection (IC) described below. As required by the Paperwork Reduction Act of 1995 and as part of our continuing efforts to reduce paperwork and respondent burden, we invite the general public; State, Tribal, and local government partners; and, other Federal agencies to take this opportunity to comment on this IC. This IC is scheduled to expire on August 31, 2014. We may not conduct or sponsor and a person is not required to respond to a collection of information unless it displays a currently valid OMB control number.

DATES: To ensure that we are able to consider your comments on this IC, we must receive them by June 16, 2014.

ADDRESSES: Send your comments on the IC to Madonna L. Baucum, Information Collection Clearance Officer, National Park Service, 1849 C Street NW. (2601), Washington, DC 20240 (mail); or madonna_baucum@nps.gov (email). Please include “1024-0238” in the subject line of your comments.

FOR FURTHER INFORMATION CONTACT: To request additional information about this IC, contact John Renaud, National Park Service, 1849 C Street NW. (2601), Washington, DC 20240 (mail); John_Renaud@nps.gov (email); or at (202) 371-1794 (fax).

SUPPLEMENTARY INFORMATION:

I. Abstract

These information collection requirements impact State, tribal, and local governments that wish to participate formally in the National Historic Preservation Partnership (NHPP) Program, and State and tribal governments that wish to apply for Historic Preservation Fund (HPF) grants. The National Historic Preservation Act, as amended, (16 U.S.C. 470 et seq.) established these programs. Implementing regulations at 36 CFR part 61 detail the processes for approval of State and tribal programs, the certification of local governments, and the monitoring and evaluation of State and certified local government programs. We developed the information collection requirements associated with 36 CFR part 61 in consultation with State, tribal, and local government partners.

We use the information to ensure compliance with the National Historic Preservation Act as well as Governmentwide grant requirements and Department of the Interior regulations at 43 CFR part 12. This information collection also produces performance data that we use to assess program effectiveness.

II. Data

OMB Control Number: 1024-0038.

Title: Procedures for State, Tribal, and Local Government Historic Preservation Programs; 36 CFR 61.

Service Form Number(s): None.

Type of Request: Revision of a currently approved collection.

Description of Respondents: State, Tribal, and local governments.

Respondent's Obligation: Required to obtain or retain a benefit.

Frequency of Collection: Annually or on occasion.

Estimated Number of Respondents: 2,081 (59 States, territories, and the District of Columbia; 155 tribes; and 1,867 certified local governments).

Estimated Number of Annual Responses: 57,003.

Completion Time per Response: Varies from 10 minutes to 625 hours, depending on activity.

Estimated Annual Burden Hours: 55,823.

Estimated Annual Nonhour Cost Burden: $345,000, primarily for photocopying, mailing, office supplies, travel expenses, etc.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: April 11, 2014.
Madonna L. Baucum,
Information Collection Clearance Officer, National Park Service.

[FR Doc. 2014-08728 Filed 4-16-14; 8:45 am]

BILLING CODE 4310-EH-P